DEPARTMENT OF JUSTICE

[AAG/A Order No. 238-2001]

Privacy Act of 1974; System of Records

Pursuant to the Privacy Act of 1974 (5 U.S.C. 552a), the Department of Justice (DOJ), Civil Division, proposes to modify the following system of records previously published in full text in the Federal Register on February 20, 1998 (63 FR 8665): Civil Division Case File System, Justice/CIV-001.

The Civil Division is adding two new routine uses to this system of records. Specifically, the Civil Division will add a new routine use to permit disclosure of information relating to qualified claimants in its Radiation Exposure Compensation Act Program files to the Department of Labor to adjudicate claims for supplemental compensation and benefits to these claimants under the Energy Employees Occupational Injury Compensation Program Act, Pub. L. 106-398, 114 Stat. 1654, Title XXXVI (2000), 42 U.S.C. 7384 et seq. In addition, the Civil Division is adding a routine use for disclosure to contractors when necessary to accomplish an agency function related to this system of records.

For public convenience, all existing routine uses are published along with the two new proposed routine uses.

Title 5 U.S.C. 552a(e)(4)(11) provides that the public be given a 30-day period in which to comment on proposed new routine use disclosures. The Office of Management and Budget (OMB), which has oversight responsibilities under the Act, requires a 40-day period in which to conclude its review of any proposal to add new routine use disclosures or make other major modifications.

You may submit any comments (by 30 days from the publication date of this notice). The public, OMB, and the Congress are invited to send written comments to Mary Cahill, Management Analyst, Management and Planning Staff, Justice Management Division, Department of Justice, Washington, DC 20530 (Room 1400 National Place Building). If no comments are received, the proposal will be implemented without further notice in the Federal Register.

In accordance with 5 U.S.C. 552a(r), the Department has provided a report to OMB and the Congress on the proposed new routine uses.

Dated: July 3, 2001.
Janis A. Sposato,
Acting Assistant Attorney General for Administration.

JUSTICE/CIV-001

System Name:

Civil Division Case File System

* * * * *

Routine Uses of Records Maintained in the System, including Categories of Users and the Purposes of Such Uses:

A record maintained in this system of records may be disseminated as a routine use of such record as follows: (1) In any case in which there is an indication of a violation or potential violation of law, whether civil, criminal or regulatory in nature, the record in question may be disseminated to the appropriate federal, state, local or foreign agency charged with the responsibility for investigating or prosecuting such violation or charged with enforcing or implementing such law; (2) in the course of investigating the potential or actual violation of any law, whether civil, criminal or regulatory in nature, or during the course of a trial or hearing, or the preparation for a trial or hearing for such violation, a record may be disseminated to a federal, state, local or foreign agency, or to an individual or organization, if there is reason to believe that such agency, individual or organization possesses information or is responsible for acquiring information relating to the investigation, trial or hearing and the dissemination is reasonably necessary to elicit such information or to obtain the cooperation of a witness or an informant; (3) a record relating to a case or matter that has been referred by an agency for investigation, prosecution, or enforcement, or that involves a case or matter within the jurisdiction of an agency, or where the agency or officials thereof are a party to litigation or where the agency or officials may be affected by a case or matter, may be disseminated to such agency to notify the agency of the status of the case or matter or of any decision or determination that has been made, or to make such other inquiries and reports as are necessary during the processing of the case or matter; (4) a record relating to a case or matter may be disseminated to a foreign country pursuant to an international treaty or convention entered into and ratified by the United States or to an executive agreement; (5) a record may be disseminated to a federal, state, local, foreign, or international law enforcement agency to assist in the general crime prevention and detection efforts of the recipient agency or to provide investigative leads to such agency; (6) a record may be disseminated to a foreign country, through the United States Department of State or directly to the representative of such country, to the extent necessary to assist such country in civil or criminal proceedings in which the United States or one of its officers or agencies has an interest; (7) a record, or any facts derived therefrom, may be disclosed in a grand jury proceeding or in a proceeding before a court or adjudicative body before which the Civil Division is authorized to appear when the United States, or any agency or subdivision thereof, is a party to litigation and such records are determined by the Civil Division to be arguably relevant to the litigation; (8) to facilitate processing Freedom of Information and Privacy Act requests for these records, information may be disclosed to another Federal agency to (a) permit a decision as to access, amendment or correction of records to be made in consultation with or by that agency, or (b) verify the identity of an individual or the accuracy of information submitted by an individual who has requested access to or amendment or correction of records; (9) information may be released to the news media and the public in accordance with 28 CFR 50.2 unless it is determined that release would constitute an unwarranted invasion of personal privacy; (10) a record may be disclosed to the National Archives and Records Administration and the General Services Administration in records management inspections conducted under the authority of 44 U.S.C. 2904 and 2906; (11) in any health care-related civil or criminal case, investigation, or matter, information indicating patient harm, neglect, or abuse, or poor or inadequate quality of care, at a health care facility or by a health care provider, may be disclosed as a routine use to any federal, state, local, tribal, foreign, joint, international or private entity that is responsible for regulating, licensing, registering, or accrediting any health care provider or health care facility, or enforcing any health care-related laws or regulations. Further, information indicating an ongoing quality of care problem by a health care provider or at a health care facility may be disclosed to the appropriate health plan. Additionally, unless otherwise prohibited by applicable law, information indicating patient harm, neglect, abuse, or poor or inadequate quality of care may be disclosed to the affected patient or his or her representative or guardian at the discretion of and in the manner determined by the agency in possession of the information; (12) pursuant to subsection (b)(3) of the Privacy Act, the Department of Justice may disclose relevant and necessary information to a former employee of the Department for purposes of: responding to an official inquiry by a federal, state, or local government entity or professional licensing authority, in accordance with applicable Department regulations; or facilitating communications with a former employee that may be necessary for personnel-related or other official purposes where the Department requires information and/or consultation assistance from the former employee regarding a matter within that person's former area of responsibility; (This routine use was added by Federal Register notice of January 31, 2001 (66 FR 8425).) (13) information relating to health care fraud may be disclosed to private health plans, or associations of private health plans, and health insurers, or associations of health insurers, for the following purposes: To promote the coordination of efforts to prevent, detect, investigate, and prosecute health care fraud; to assist efforts by victims of health care fraud to obtain restitution; to enable private health plans to participate in local, regional, and national health care fraud task force activities; and to assist tribunals having jurisdiction over claims against private health plans; (This routine use was added by Federal Register notice of March 29, 2001 (66 FR 17200).) (14) for all claims made by individuals covered by the Energy Employees Occupational Injury Compensation Program Act, Pub. L. 106-398, 114 Stat. 1654, Title XXXVI (2000), 42 U.S.C. 7384 et seq., the Civil Division may disclose to the Department of Labor all information contained in its Radiation Exposure Compensation Act, (42 U.S.C. 2210 note) files pertinent to those claims; (15) to contractors, experts, consultants employed by the Civil Division when necessary to accomplish an agency function related to this system of records.

* * * * *

[FR Doc. 01-17475 Filed 7-11-01; 8:45 am]

BILLING CODE 4410-12-P